FEDERAL HOUSING FINANCE BOARD

Sunshine Act Meeting Notice; Announcing an Open Meeting of the Board of Directors

Time and Date: The meeting of the Board of Directors is scheduled to begin at 10a.m. on Wednesday, June 18, 2003.

Place: Board Room, Second Floor, Federal Housing Finance Board, 1777 F Street, NW, Washington, DC 20006.

Status: The entire meeting will be open to the public.

Matters to be Considered:

Proposed Rule Regarding Acquired Member Assets. The rule would revise the Acquired Member Assets (AMA) regulation (12 CFR part 955) to create less prescriptive AMA requirements, to provide each Federal Home Loan Bank (Bank) with greater responsibility for designing and managing its AMA program, subject to ongoing supervisory review, and to codify a Bank's authority to acquire as AMA certain instruments that represent an interest in loans that individually could qualify as AMA.

Interim Final Rule Regarding the Privacy Act and the Freedom of Information Act

The revised Privacy Act regulation (12 CFR part 913) is written in a “user-friendly” format using plain language and, where appropriate, a question-and-answer format and reflects a reassignment of responsibility and authority for running the Federal Housing Finance Board's Privacy Act program to the Office of General Counsel. The rule also amends the Freedom of Information Act fee schedule (12 CFR 910.9) to take into account increased salary and operational costs.

Final Rule Updating the Description of the Federal Housing Finance Board's Organization and Functions

The rule revises the regulation describing the agency's general organization and functions to reflect the current structure and assignment of responsibilities (12 CFR part 905).

Appointment of Director—Federal Home Loan Bank of Topeka

Section 7 of the Federal Home Loan Bank Act (12 U.S.C. 1427) requires the Federal Housing Finance Board to appoint public interest directors to the boards of directors of the Federal Home Loan Banks.

Designation of Community Interest Director—Federal Home Loan Bank of Cincinnati

Section 7(a) of the Federal Home Loan Bank Act (12 U.S.C. 1427(a)) requires at least two public interest directors appointed by the Federal Housing Finance Board to the board of directors of each Federal Home Loan Bank to be community interest directors, that is, from organizations with more than a two-year history of representing consumer or community interests on banking services, credit needs, housing or financial consumer protections.

2003 Designation of Federal Home Loan Bank Directorships

Section 7 of the Federal Home Loan Bank Act (12 U.S.C. 1427) requires the Federal Housing Finance Board annually to designate directorships for the election of Federal Home Loan Bank directors.

FOR FURTHER INFORMATION CONTACT: Mary H. Gottlieb, Paralegal Specialist, Office of General Counsel, by telephone at 202/408-2826 or by electronic mail at gottliebm@fhfb.gov.

Dated: June 10, 2003.
By the Federal Housing Finance Board.
Arnold Intrater,
General Counsel.

[FR Doc. 03-15193 Filed 6-11-03; 4:49 pm]

BILLING CODE 6725-01-P